DEPARTMENT OF JUSTICE

Antitrust Division

Notice Pursuant to the National Cooperative Research and Production Act of 1993—Precast/Prestressed Concrete Institute

Notice is hereby given that, on July 17, 2014, pursuant to Section 6(a) of the National Cooperative Research and Production Act of 1993, 15 U.S.C. 4301 et seq. (“the Act”), Precast/Prestressed Concrete Institute (“PCI”) has filed written notifications simultaneously with the Attorney General and the Federal Trade Commission disclosing (1) the name and principal place of business of the standards development organization and (2) the nature and scope of its standards development activities. The notifications were filed for the purpose of invoking the Act's provisions limiting the recovery of antitrust plaintiffs to actual damages under specified circumstances.

Pursuant to Section 6(b) of the Act, the name and principal place of business of the standards development organization is: Precast/Prestressed Concrete Institute, Chicago, IL. The nature and scope of PCI's standards development activities are: to develop and maintain voluntary consensus standards for the design, detailing, fabrication, transportation, and erection of precast and precast, prestressed concrete products.

Patricia A. Brink,
Director of Civil Enforcement, Antitrust Division.

[FR Doc. 2014-19318 Filed 8-14-14; 8:45 am]

BILLING CODE 4410-11-P